DEPARTMENT OF JUSTICE

Membership of the Senior Executive Service Standing Performance Review Boards

AGENCY: Department of Justice.

ACTION: Notice; correction.

SUMMARY: The Department of Justice published a document in the Federal Register of September 13, 2011, concerning the Department of Justice's standing members of the Senior Executive Service Performance Review Boards. The names and position titles of two executives were inadvertently omitted from the document.

FOR FURTHER INFORMATION CONTACT: Lisa Schwartz, Assistant Director, Executive and Political Personnel, Justice Management Division, Department of Justice, Washington, DC 20530; (202) 514-0677.

Correction

In the Federal Register of September 13, 2011, in FR Document 2011-23394, on page 56477, under the heading Executive Office for U.S. Attorneys—EOUSA, and under the name JARRETT, HOWARD MARSHALL DIRECTOR, add the name WILKINSON, ROBERT PRINCIPAL DEPUTY AND CHIEF OF STAFF. Also, on page 56480, under the heading U.S. Marshals Service—USMS, and under the name JONES, SYLVESTER E ASSISTANT DIRECTOR, WITNESS SECURITY, add the name HEMPHILL, ALBERT ASSISTANT DIRECTOR, FINANCIAL SERVICES.

These new names are “as of September 13, 2011.”

Lee J. Lofthus,
Assistant Attorney General for Administration.

[FR Doc. 2011-28651 Filed 11-3-11; 8:45 am]

BILLING CODE 4410-NW-P